DEPARTMENT OF TRANSPORTATION

Federal Aviation Administration

14 CFR Part 39

[Docket No. FAA-2012-0338; Directorate Identifier 2009-SW-51-AD; Amendment 39-17172; AD 2012-17-09]

RIN 2120-AA64

Airworthiness Directives; Eurocopter France Helicopters

AGENCY: Federal Aviation Administration (FAA), DOT.

ACTION: Final rule.

SUMMARY: We are adopting a new airworthiness directive (AD) for Eurocopter France Model SA341G helicopters. This AD requires replacing any rotating star with more than 12,000 hours TIS. This AD was prompted by an analysis and tests performed by the manufacturer that indicate that the life limit of the rotating star should be 12,000 hours time-in-service (TIS). The actions of this AD are intended to prevent failure of the rotating star and subsequent loss of control of the helicopter.

DATES: This AD is effective October 19, 2012.

Examining the AD Docket

You may examine the AD docket on the Internet at http://www.regulations.gov or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Gary Roach, Aviation Safety Engineer, Regulations and Policy Group, Rotorcraft Directorate, FAA, 2601 Meacham Blvd., Fort Worth, TX 76137; telephone (817) 222-5110; email gary.b.roach@faa.gov.

SUPPLEMENTARY INFORMATION:

Discussion

On March 29, 2012, at 77 FR 18965, the Federal Register published our notice of proposed rulemaking (NPRM), which proposed to amend 14 CFR part 39 to include an AD that would apply to Eurocopter France Model SA341G helicopters, with rotating star, part number (P/N) 341A31.4116.21 installed. That NPRM proposed to require replacing any rotating star with 12,000 or more hours TIS with an airworthy rotating star with less than 12,000 hours TIS. The NPRM also proposed to revise the Airworthiness Limitations section of the Instructions for Continued Airworthiness by reducing the service life of the main rotor rotating star from unlimited hours to 12,000 hours TIS. The proposed requirements were intended to prevent failure of the rotating star and subsequent loss of control of the helicopter.

The Direction Generale de l'Aviation Civile (DGAC), which is the aviation authority for France, has issued DGAC AD No. F-2004-070, dated May 26, 2004, to correct an unsafe condition for Eurocopter France Model SA 341/342 helicopters. The DGAC advises that they issued the AD to require a new service life limit of 12,000 flight hours for the rotating star, part number (P/N) 341A31.4116.21, installed on Model SA341G helicopters.

Comments

We gave the public the opportunity to participate in developing this AD, but we did not receive any comments on the NPRM.

FAA's Determination

These helicopters have been approved by the aviation authority of France and are approved for operation in the United States. Pursuant to our bilateral agreement with France, DGAC, its technical representative, has notified us of the unsafe condition described in the DGAC AD. We are issuing this AD because we evaluated all information provided by DGAC and determined the unsafe condition exists and is likely to exist or develop on other helicopters of the same type designs and that air safety and the public interest require adopting the AD requirements as proposed.

Costs of Compliance

We estimate that this AD will affect 21 helicopters of U.S. registry and the actions will take approximately 6 work hours per helicopter to accomplish at an average labor rate of $85 per work hour. Required parts will cost approximately $6,000. Based on these figures, we estimate the total cost impact of this AD on U.S. operators to be $6,510 to replace the rotating star on each helicopter, or $136,710 for the entire U.S. fleet.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-17-09 Eurocopter France: Amendment 39-17172; Docket No. FAA-2012-0338; Directorate Identifier 2009-SW-51-AD.

(a) Applicability

This AD applies to Model SA341G helicopters, with rotating star, part number (P/N) 341A31.4116.21 installed, certificated in any category.

(b) Unsafe Condition

This AD defines the unsafe condition as a reduced service life of the rotating star. This condition could result in failure of the rotating star and subsequent loss of control of the helicopter.

(c) Effective Date

This AD becomes effective October 19, 2012.

(d) Compliance

You are responsible for performing each action required by this AD within the specified compliance time unless accomplished previously.

(e) Required Actions

(1) Before further flight, remove any rotating star, P/N 341A31.4116.21, with 12,000 or more hours time-in-service (TIS), and replace it with an airworthy rotating star with less than 12,000 hours TIS.

(2) Revise the Airworthiness Limitations section of the Instructions for Continued Airworthiness by reducing the service life of the main rotor rotating star from unlimited hours TIS to 12,000 hours TIS.

(f) Alternative Methods of Compliance (AMOCs)

(1) The Manager, Safety Management Group, FAA, may approve AMOCs for this AD. Send your proposal to: Gary Roach, Aviation Safety Engineer, Regulations and Policy Group, Rotorcraft Directorate, FAA, 2601 Meacham Blvd., Fort Worth, TX 76137; telephone (817) 222-5110; email gary.b.roach@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in Direction Generale de l'Aviation Civile (France) AD No. F-2004-070, dated May 26, 2004.

(h) Subject

Joint Aircraft Service Component (JASC) Code: 6220: Main Rotor Head.

Issued in Fort Worth, Texas, on August 21, 2012.
Lance T. Gant,
Acting Manager, Rotorcraft Directorate, Aircraft Certification Service.

[FR Doc. 2012-21531 Filed 9-13-12; 8:45 am]

BILLING CODE 4910-13-P